ENVIRONMENTAL PROTECTION AGENCY

[EPA-HQ-OPPT-2017-0647; FRL-10273-01-OMS]

Information Collection Request Submitted to OMB for Review and Approval; Comment Request; Polychlorinated Biphenyls (PCBs): Consolidated Reporting and Recordkeeping Requirements (Renewal)

AGENCY: Environmental Protection Agency (EPA).

ACTION: Notice.

SUMMARY: The Environmental Protection Agency (EPA) has submitted the following information collection request (ICR) to the Office of Management and Budget (OMB) for review and approval in accordance with the Paperwork Reduction Act (PRA): “Polychlorinated Biphenyls (PCBs); Consolidated Information Collection Activities” (EPA ICR No. 1446.14 and OMB Control No. 2070-0112). This is a request to renew an existing ICR that is currently approved through November 30, 2022. Public comments were previously requested via the Federal Register on April 7, 2022. This notice allows for an additional 30 days for public comments. The ICR, which is summarized in this document, describes the collection activities and estimated burden and cost to the public. An agency may not conduct or sponsor and a person is not required to respond to a collection of information unless it displays a currently valid OMB control number.

DATES: Additional comments may be submitted on or before December 23, 2022.

ADDRESSES: Submit your comments to EPA, referencing Docket ID No. EPA-HQ-OPPT-2017-0647, using https://www.regulations.gov (our preferred method) or by mail to: Environmental Protection Agency, EPA Docket Center, Mail Code 28221T, 1200 Pennsylvania Ave. NW, Washington, DC 20460. For additional delivery options and information about EPA's dockets, visit https://www.epa.gov/dockets. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Katherine Sleasman, Regulatory Support Branch, Office of Chemical Safety and Pollution Prevention, 7602M, Environmental Protection Agency, 1200 Pennsylvania Ave. NW, Washington, DC 20460; telephone number: (202) 566-1204; email address: sleasman.katherine@epa.gov.

SUPPLEMENTARY INFORMATION: Supporting documents which explain in detail the information that the EPA will be collecting, are available in the docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Abstract: Section 6(e)(1) of the Toxic Substances Control Act (TSCA), 15 U.S.C. 2605(e), directs EPA to regulate the marking and disposal of PCBs. TSCA section 6(e)(2) bans the manufacturing, processing, distribution in commerce, and use of PCBs in other than a totally enclosed manner. TSCA section 6(e)(3) establishes a process for obtaining exemptions from the prohibitions on the manufacture, processing, and distribution in commerce of PCBs. Since 1978, EPA has promulgated numerous rules addressing all aspects of the life cycle of PCBs as required by the statute. The regulations are intended to prevent the improper handling and disposal of PCBs and to minimize the exposure of human beings or the environment to PCBs. These regulations have been codified in 40 CFR part 761, which includes approximately 100 specific reporting, third-party reporting, and recordkeeping requirements. To meet its statutory obligations to regulate PCBs, EPA must obtain sufficient information to conclude that specified activities do not result in an unreasonable risk of injury to health or the environment. EPA uses the information collected under 40 CFR part 761 to ensure that PCBs are managed in an environmentally safe manner and that activities are being conducted in compliance with the PCB regulations. The information collected by these requirements will update the Agency's knowledge of ongoing PCB activities, ensure that individuals using or disposing of PCBs are held accountable for their activities, and demonstrate compliance with the PCB regulations. Specific uses of the information collected include determining the efficacy of a disposal technology; evaluating exemption requests and exclusion notices; targeting compliance inspections; and ensuring adequate storage capacity for PCB waste. This collection addresses the several information reporting requirements found in the PCB regulations, 40 CFR part 761.

Form Numbers: 7720-12 and 7710-53.

Respondents/affected entities: Persons who currently possess PCB items, PCB-contaminated equipment, or other PCB waste.

Respondent's obligation to respond: Mandatory, per TSCA section 6(e) and 40 CFR part 761.

Estimated number of respondents: 121,967 (total).

Frequency of response: On occasion.

Total estimated burden: 659,882 hours (per year). Burden is defined at 5 CFR 1320.3(b).

Total estimated cost: $35,460,639 (per year), includes $50 annualized capital or operation & maintenance costs.

Changes in the estimates: This request reflects a decrease of 19,505 hours (from 679,387 hours to 659,882 hours) in the total estimated respondent burden from that currently in the OMB inventory. This decrease is due to updates to the most current wage rate data and to revisions to the total number of respondents based on new data gathered for this ICR effort, updated Agency data regarding total numbers of regulated entities, and the overlapping coverage of the recently revised ICR for Universal Hazardous Waste Manifest, EPA ICR No. 0801.25 and OMB Control No. 2050-0039, which was approved by OMB through January 31, 2025.

Courtney Kerwin,
Director, Regulatory Support Division.

[FR Doc. 2022-25570 Filed 11-22-22; 8:45 am]

BILLING CODE 6560-50-P